DEPARTMENT OF JUSTICE

Antitrust Division

Notice Pursuant to the National Cooperative Research and Production Act of 1993—the Digital Subscribe Line Forum

Notice is hereby given that, on October 9, 2001, pursuant to section 6(a) of the National Cooperative Research and Production Act of 1993, 15 U.S.C. 4301 et seq. (“the Act”), The Digital Subscriber Line Forum (“DSL”) filed written notifications simultaneously with the Attorney General and the Federal Trade Commission disclosing changes in its membership status. The notifications were filed for the purpose of extending the Act's provisions limiting the recovery of antitrust plaintiffs to actual damages under specified circumstances. Specifically, 186k Ltd., Reading, Berkshire, UNITED KINGDOM; ACACIA, Saint-Peray, FRANCE; Celestix Networks, Fremont, CA; CopperCom, Boca Raton, FL; Fraunhofer-ESK, Munich, GERMANY; Future Communications Software, San Jose, CA; ITI Limited, Bangalore, INDIA; and Vina Technologies, Newark, CA, have been added as parties to this venture. Also, Sphere Communications, Lake Bluff, IL, has been dropped as a party to this venture.

In addition, Admit Design Systems is now called Admit Systems, Dalgety, Fife, UNITED KINGDOM; and Agilent Interoperability Certification Labs is not called Agilent Technologies, San Jose, CA.

No other changes have been made in either the membership or planned activity of the group research project. Membership in this group research project remains open, and DSL intends to file additional written notifications disclosing all changes in membership.

On May 15, 1995, DSL filed its original notification pursuant to section 6(a) of the Act. The Department of Justice published a notice in the Federal Register pursuant to section 6(b) of the Act on July 25, 1995 (60 FR 38058).

The last notification was filed with the Department on July 24, 2001. A notice for this filing has not yet been published in the Federal Register.

Constance K. Robinson,
Director of Operations, Antitrust Division.

[FR Doc. 02-5531 Filed 3-7-02; 8:45 am]

BILLING CODE 4410-11-M